NUCLEAR REGULATORY COMMISSION

Sunshine Meeting Notice

AGENCY HOLDING THE MEETING: Nuclear Regulatory Commission.

DATE: Weeks of December 24, 31, 2001, January 7, 14, 21, 28, 2002.

PLACE: Commissioners' Conference Room, 11555 Rockville Pike, Rockville, Maryland.

STATUS: Public and Closed.

MATTERS TO BE CONSIDERED:

Week of December 24, 2001

There are no meetings scheduled for the Week of December 24, 2001.

Week of December 31, 2001—Tentative

There are no meetings scheduled for the Week of December 31, 2001.

Week of January 7, 2002—Tentative

There are no meetings scheduled for the Week of January 7, 2002.

Week of January 14, 2002—Tentative

Tuesday, January 15, 2002

9:30 a.m. Briefing on Status of Nuclear Materials Safety (Public Meeting).

This meeting will be webcast live at the Web address— www.nrc.gov.

Week of January 21, 2002—Tentative

There are no meetings scheduled for the Week of January 21, 2002.

Week of January 28, 2002—Tentative

Tuesday, January 29, 2002

9:30 a.m. Briefing on Status of Nuclear Reactor Safety (Public Meeting).

This meeting will be webcast live at the Web address— www.nrc.gov.

Wednesday, January 30, 2002

9:30 a.m. Briefing on Status of OCIO Programs, Performance, and Plans (Public Meeting).

This meeting will be webcast live at the Web address— www.nrc.gov.

2:00 p.m. Discussion of Intragovernmental Issues (Closed—Ex. 1&9)

*The schedule for Commission meetings is subject to change on short notice. To verify the status of meetings call (recording)—(301) 415-1292. Contact person for more information: David Louis Gamberoni (301) 415-1651.

* * * * *

The NRC Commission Meeting Schedule can be found on the Internet at: www.nrc.gov.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: December 19, 2001.
Sandra M. Joosten,
Executive Assistant, Office of the Secretary.

[FR Doc. 01-31919 Filed 12-21-01; 11:40 am]

BILLING CODE 7590-01-M